NATIONAL AERONAUTICS AND SPACE ADMINISTRATION

14 CFR Part 1204

[Docket No. NASA-2012-0004]

RIN 2700-AD78

Removal of Obsolete Regulation: Use of the Centennial of Flight Commission Name

AGENCY: National Aeronautics and Space Administration.

ACTION: Direct final rule.

SUMMARY: This direct final rule makes nonsubstantive changes by removing a regulation that is obsolete and no longer used. The revision to this rule are part of NASA's retrospective plan under Executive Order (EO) 13563 completed in August 2011. NASA's full plan can be accessed on the Agency's open government Web site at http://www.nasa.gov/open/.

DATES: This direct final rule is effective on December 3, 2012. Comments due on or before November 5, 2012. If adverse comments are received, NASA will publish a timely withdrawal of the rule in the Federal Register.

ADDRESSES: Comments must be identified with RIN 2700-AD78 and may be sent to NASA via the Federal E-Rulemaking Portal: http://www.regulations.gov. Follow the online instructions for submitting comments. Please note that NASA will post all comments on the Internet with changes, including any personal information provided.

FOR FURTHER INFORMATION CONTACT: Nanette Jennings, 202-358-0819.

SUPPLEMENTARY INFORMATION:

Direct Final Rule Adverse Comments

NASA has determined this rulemaking meets the criteria for a direct final rule because it involves nonsubstantive changes to remove sections from the Code of Federal Regulations that are obsolete and no longer used. No opposition to the changes and no significant adverse comments are expected. However, if the Agency receives a significant adverse comment, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

On January 18, 2011, President Obama signed EO 13563, Improving Regulations and Regulatory Review, directing agencies to develop a plan for a retrospective analysis of existing regulations. NASA developed its plan and published it on the Agency's open Government Web site at http://www.nasa.gov/open/. The Agency conducted an analysis of its existing regulations to comply with the Order and determined that section 1204. 506 entitled “Delegation of Authority to License the Use of the Centennial of Flight Commission Name.”

Section 506, Delegation of Authority to License the Use of the Centennial of Flight Commission Name—The Centennial of Flight Commemoration Act of 1999 (the Act), Public Law 105-389, as amended by Public Law 106-68, was issued to establish the U.S. Centennial Flight Commission to assist in commemoration of the centennial of powered flight and the achievements of the Wright brothers' first powered flight at Kill Devil Hills, North Carolina, and to serve as a national and international source for activities commemorating this historic event. The Wright brothers, Orville and Wilbur, were two Americans credited with inventing and building the world's first successful airplane and making the first controlled, powered and sustained heavier-than-air human flight on December 17, 1903. Therefore, to plan for these commemorative activities, the Act authorized the NASA Administrator use of the Centennial of Flight Commission's name on any logo, emblem, seal, or descriptive or designating mark, after consultation with the Commission, in connection with the commemoration of the centennial of powered flight. Section 506 was promulgated to delegate the authority of the NASA Administrator to the Assistant Administrator for Public Affairs, without authority for further delegation. With this authority, NASA used the Centennial of Flight Commission's name on its exhibits, educational, historical and experimental programs and materials to support a year-long commemoration that started in December 2002. NASA's recognition of the Centennial ended December 17, 2003. Therefore, this section is no longer needed.

Statutory Authority

The National Aeronautics and Space Act (the Space Act), 51 U.S.C. 20113 (a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders 13563 and 12866 direct agencies to assess all costs and benefits of available regulatory alternatives and, if regulation is necessary, to select regulatory approaches that maximize net benefits (including potential economic, environmental, public health and safety effects, distributive impacts, and equity). EO 13563 emphasizes the importance of quantifying both costs and benefits, of reducing costs, of harmonizing rules, and of promoting flexibility. This rule has been designated as “not significant” under section 3(f) of EO 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes one section from Title 14 of the CFR and, therefore, does not have a significant economic impact on a substantial number of small entities.

Review Under the Paperwork Reduction Act

This direct final rule does not contain any information collection requirements subject to the Paperwork Reduction Act of 1995 (44 U.S.C. 3501 et seq.).

Review Under EO 13132

EO 13132, “Federalism,” 64 FR 43255 (August 4, 1999) requires regulations be reviewed for Federalism effects on the institutional interest of states and local governments, and if the effects are sufficiently substantial, preparation of the Federal assessment is required to assist senior policy makers. The amendments will not have any substantial direct effects on state and local governments within the meaning of the EO. Therefore, no Federalism assessment is required.

List of Subjects in 14 CFR Part 1204

Authority delegations.

Accordingly, under the authority of the National Aeronautics and Space Act, as amended, NASA amends 14 CFR part 1204 as follows:

PART 1204—ADMINISTRATIVE AUTHORITY AND POLICY

1. The authority citation for part 1204 subpart 500 is revised to read as follows:

Authority: 51 U.S.C. 20113.

§ 1204.506 [Removed and Reserved]

2. Remove and reserve § 1204.506.

Charles F. Bolden, Jr.,
Administrator.

[FR Doc. 2012-23649 Filed 10-3-12; 8:45 am]

BILLING CODE P